INTERNATIONAL TRADE COMMISSION

[Investigation No. 731-TA-385 (Fourth Review)]

Granular Polytetrafluoroethylene Resin From Italy Termination of Five-Year Review

AGENCY: United States International Trade Commission.

ACTION: Notice.

SUMMARY: The Commission instituted the subject five-year review in June 2016 to determine whether revocation of the antidumping duty order on granular polytetrafluoroethylene resin from Italy would be likely to lead to continuation or recurrence of material injury. On August 11, 2016, the Department of Commerce published notice that it was revoking the order effective July 18, 2016, because “the domestic interested parties did not participate in this sunset review.” (81 FR 53119). Accordingly, the subject review is terminated.

DATES: Effective Date: August 16, 2016

FOR FURTHER INFORMATION CONTACT: Fred Ruggles (202-205-3187, fred.ruggles@usitc.gov), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov).

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: August 16, 2016.
Lisa R. Barton,
Secretary to the Commission.

[FR Doc. 2016-19918 Filed 8-19-16; 8:45 am]

BILLING CODE 7020-02-P